DEPARTMENT OF THE INTERIOR

National Park Service

Notice of Inventory Completion: Alutiiq Museum and Archaeological Repository, Kodiak, AK

AGENCY: National Park Service, Interior.

ACTION: Notice.

Notice is here given in accordance with the Native American Graves Protection and Repatriation Act (NAGPRA), 25 U.S.C. 3003, of the completion of an inventory of human remains in the possession of Alutiiq Museum and Archaeological Repository, Kodiak, AK. The human remains were removed from Long Island in the Kodiak Island archipelago, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Alutiiq Museum and Archaeological Repository professional staff in consultation with representatives of the Koniag, Inc.; Leisnoi, Inc.; Lesnoi Village (aka Woody Island); Natives of Kodiak, Inc.; and Sun'aq Tribe of Kodiak (formerly the Shoonaq' Tribe of Kodiak).

In May 1991, human remains representing a minimum of one individual were removed from most likely the beach or from the eroding bank of 49-KOD-00023, Vera Bay on Long Island, AK, by Father Peter Kreta, a Russian Orthodox Priest. Father Kreta took the human remains to archeologist Dr. Richard Knecht at the Kodiak Area Native Association's Alutiiq Center where they were stored until 1995. In 1995, the human remains were transferred to the Alutiiq Museum and Archaeological Repository where they are currently stored (accession number AM60). No known individual was identified. No associated funerary objects were present.

Humic staining on the cranium indicates that the human remains were once buried. Long Island lies in Chiniak Bay in the northeastern Kodiak archipelago of Alaska and within the traditional territory of the Kodiak Alutiiq people. The human remains are reasonably believed to be associated with 49-KOD-00023, a known prehistoric site. Artifact finds from the site indicate that it dates to the Late Kachemak phase of the Kachemak tradition, somewhere between 2,700 and 800 years old. Archeological surveys of this site indicate that it contains two areas of midden deposits - one of which rests directly behind the modern beach. This section of the site has been potted heavily and is eroding thereby scattering materials onto the beach. Archeologists believe that the people of the Late Kachemak tradition are ancestors of modern day Alutiiqs. Archeological data collected over the past 20 years indicates that Late Kachemak phase societies evolved into the more complexly organized societies of the Koniag tradition observed at historic contact in the late 18th century. As such, the human remains are reasonably believed to be Native American and most closely affiliated with the contemporary Native residents of the Kodiak archipelago, the Kodiak Alutiiq. Specifically, the human remains are from an area traditionally used by members of Koniag, Inc.; Leisnoi, Inc.; Lesnoi Village; Natives of Kodiak, Inc.; and Sun'aq Tribe of Kodiak.

In 1993, human remains representing a minimum of one individual were removed from Long Island, AK, by Barb Zickuhr. In February 1995, the human remains were turned over to the Alaska State Troopers. After completion of an investigation, the Alaska State Troopers transferred human remains to Dr. Richard Knecht at the Kodiak Area Native Association's Alutiiq Culture Center. In April of 1995, the human remains were transferred to the Alutiiq Museum and Archaeological Repository where they are currently stored (accession number AM58). No known individual was identified. No associated funerary objects are present.

Long Island lies in Chiniak Bay in the northeastern Kodiak archipelago within the traditional territory of the Kodiak Alutiiq people. The human remains are humic stained with heavily worn teeth and no evidence of modern dentistry, characteristics common to early historic and prehistoric times. Archeological sites on Long Island contain deposits spanning Kodiak's prehistoric and historic eras. Most archeologists believe that the region's cultural sequence represents a period of evolutionary growth with the earliest colonizers evolving into the Alutiiq societies recorded at historic contact over a 7,500 year period. As such, the human remains are reasonably believed to be from a prehistoric Alutiiq person and most closely affiliated with the contemporary Native residents of the Kodiak archipelago, the Kodiak Alutiiq. Specifically, the human remains were recovered from an area traditionally used by members of Koniag, Inc.; Leisnoi, Inc.; Lesnoi Village; Natives of Kodiak, Inc.; and Sun'aq Tribe of Kodiak.

Officials of the Alutiiq Museum and Archaeological Repository have determined that, pursuant to 25 U.S.C. 3001 (9-10), the human remains described above represent the physical remains of at least two individuals of Native American ancestry. Officials of the Alutiiq Museum and Archaeological Repository also have determined that, pursuant to 25 U.S.C. 3001 (2), there is a relationship of shared group identity that can be reasonably traced between the Native American human remains and the Koniag, Inc.; Leisnoi, Inc.; Lesnoi Village; Natives of Kodiak, Inc.; and Sun'aq Tribe of Kodiak.

Representatives of any other Indian tribe that believes itself to be culturally affiliated with the human remains should contact Dr. Sven Haakanson, Jr., Executive Director, Alutiiq Museum and Archaeological Repository, 215 Mission Rd., Suite 101, Kodiak, AK 99615, telephone (907) 486-7004, before September 24, 2007. Repatriation of the human remains to the Koniag, Inc.; Leisnoi, Inc.; Lesnoi Village; Natives of Kodiak, Inc.; and Sun'aq Tribe of Kodiak may proceed after that date if no additional claimants come forward.

The Alutiiq Museum and Archaeological Repository is responsible for notifying the Koniag, Inc.; Leisnoi, Inc.; Lesnoi Village; Natives of Kodiak, Inc.; and Sun'aq Tribe of Kodiak that this notice has been published.

Dated: August 6, 2007.
Sherry Hutt,
Manager, National NAGPRA Program.

[FR Doc. E7-16782 Filed 8-23-07; 8:45 am]

BILLING CODE 4312-50-S